DEPARTMENT OF AGRICULTURE

Natural Resources Conservation Service

[Docket No. NRCS-2016-0008]

Notice of Proposed Changes to the National Handbook of Conservation Practices for the Natural Resources Conservation Service

AGENCY: Natural Resources Conservation Service (NRCS), U.S. Department of Agriculture (USDA).

ACTION: Notice of availability of proposed changes in the NRCS National Handbook of Conservation Practices (NHCP) for public review and comment.

SUMMARY: Notice is hereby given of the intention of NRCS to issue a series of revised conservation practice standards in NHCP. These standards include Brush Management (Code 314), Herbaceous Weed Treatment (Code 315), Lined Waterway or Outlet (Code 468), Prescribed Grazing (Code 528), and Restoration of Rare or Declining Natural Communities (Code 643). NRCS State Conservationists who choose to adopt these practices for use within their States will incorporate them into section IV of their respective electronic Field Office Technical Guide. These practices may be used in conservation systems that treat highly erodible land (HEL), or on land determined to be a wetland. Section 343 of the Federal Agriculture Improvement and Reform Act of 1996 requires NRCS to make available for public review and comment all proposed revisions to conservation practice standards used to carry out HEL and wetland provisions of the law.

DATES: Effective Date: This is effective October 7, 2016.

Comment Date: Submit comments on or before November 7, 2016. Final versions of these new or revised conservation practice standards will be adopted after the close of the 30-day period and after consideration of all comments.

ADDRESSES: Comments should be submitted, identified by Docket Number NRCS-2016-0008, using any of the following methods:

• Federal eRulemaking Portal: http://www.regulations.gov. Follow the instructions for submitting comments.

• Mail or hand-delivery: Public Comments Processing, Attention: Regulatory and Agency Policy Team, Strategic Planning and Accountability, Natural Resources Conservation Service, 5601 Sunnyside Avenue, Building 1-1112D, Beltsville, Maryland 20705.

NRCS will post all comments on http://www.regulations.gov. In general, personal information provided with comments will be posted. If your comment includes your address, telephone number, email, or other personal identifying information, your comments, including personal information, may be available to the public. You may ask in your comment that your personal identifying information be withheld from public view, but this cannot be guaranteed.

FOR FURTHER INFORMATION CONTACT: Terri Ruch, acting national agricultural engineer, Conservation Engineering Division, Department of Agriculture, Natural Resources Conservation Service, 1400 Independence Avenue SW., Room 6133 South Building, Washington, DC 20250.

Electronic copies of the proposed revised standards are available from http://go.usa.gov/TXye. Requests for paper versions or inquiries may be directed to Emil Horvath, national practice standards review coordinator, Natural Resources Conservation Service, Central National Technology Support Center, 501 West Felix Street, Fort Worth, Texas 76115.

SUPPLEMENTARY INFORMATION: The amount of the proposed changes varies considerably for each of the conservation practice standards addressed in this notice. To fully understand the proposed changes, individuals are encouraged to compare these changes with each standard's current version as shown at: http://www.nrcs.usda.gov/wps/portal/nrcs/detailfull/national/technical/cp/ncps/?cid=nrcs143_026849 .To aid in this comparison, following are highlights of some of the proposed revisions to each standard:

Brush Management (Code 314): The brush management standard was reviewed and updated to reflect current agency policy and science. Changes also were made to bring the standard up to date on current ecological site descriptions. Added statement to the “purpose” that when standard is applied successively, it facilitates the process to achieve the desired plant community. “Criteria” section was changed to add statement to ensure practice area has the correct plant diversity for the desired plant community after completion.

Herbaceous Weed Treatment (Code 315): The herbaceous weed control standard was reviewed and updated to reflect current agency policy and science. Changes also were made to bring standard up to date on current ecological site descriptions. “Purpose” was adjusted to focus on consideration of reducing wildfire fuel loading. Two “purposes” were added that reflect agency consideration and focus on improving rangeland health, and that when the standard is applied successively, it facilitates the process to achieve the desired plant community.

Lined Waterway or Outlet (Code 468): The entire document is edited for clarity. Restriction for maximum capacity is removed. Criteria for minimum capacity is modified to include provisions for minimal slopes and downstream conveyance capacities. Specific “n” values and design criteria are replaced with references to NRCS National Engineering Handbook. References and citations are updated to the current editions.

Prescribed Grazing (Code 528): The prescribed grazing standard was reviewed and updated to reflect current agency policy and science. Changes were made to clarify and recognize the benefits of prescribed grazing on soil health. Clarified “practice description” by adding “. . . with the intent to achieve specific ecological, economic, and management objectives.” In “purpose,” the concept of plant community “structure” was added when addressing plant communities, and added verbiage identifying the benefits of this practice to soil health.

Restoration of Rare or Declining Natural Communities (Code 643): Changed title from Restoration and Management of Rare and Declining Habitats to Restoration of Rare or Declining Natural Communities. The term “habitats” is changed to “natural communities” to encompass not only wildlife resource concerns, but also activities targeting a unique plant community. Unique to restoration efforts of rare and declining natural communities, the restoration of the abiotic conditions is typically necessary, prior to restoration of biotic conditions. Broadened the scope to include abiotic restoration and restoration of plant communities.

Dated: September 29, 2016.
Jason A. Weller,
Chief, Natural Resources Conservation Service.

[FR Doc. 2016-24329 Filed 10-6-16; 8:45 am]

BILLING CODE 3410-16-P